DEPARTMENT OF COMMERCE

International Trade Administration

19 CFR Part 360

[Docket Number: 040305083-5052-02]

RIN 0625-AA64

Steel Import Monitoring and Analysis System

AGENCY: Import Administration, International Trade Administration, Commerce.

ACTION: Interim final rule.

SUMMARY: The Department of Commerce publishes this interim final rule to implement a Steel Import Monitoring and Analysis (SIMA) System, originally outlined in the President's March 5, 2002, Proclamation on Steel Safeguards.¹ SIMA, as fully implemented by this interim final rule, contains modifications made in light of comments received in response to an Advanced Notice of Proposed Rulemaking (ANPRM) published on August 25, 2004.

¹ Formerly, the Steel Import Licensing and Surge Monitoring System.

DATES: This interim final rule is effective March 11, 2005. Modifications to SIMA, as stated in Annexes II and III will be implemented on June 9, 2005. Comments on the SIMA system must be submitted on or before 5 p.m. e.s.t., May 10, 2005.

Paperwork Reduction Act: Comments regarding the information collection requirements must be submitted to Diana Hynek, Departmental Paperwork Officer, on or before 5 p.m., e.s.t., May 10, 2005.

ADDRESSES: Comments on the SIMA system may be submitted through any of the following:

• Mail: Kelly Parkhill, Director for Industry Support and Analysis, Import Administration, Room 3713, Department of Commerce, 14th and Constitution Ave., NW., Washington, DC 20230.

• E-mail: steel_license@ita.doc.gov. Please state “Comments on the Interim final rule” in the subject line.

• Federal e-Rulemaking portal: http://www.regulations.gov.

Paperwork Reduction Act: Comments regarding the information collection should be sent to Diana Hynek, Departmental Paperwork, Clearance Officer, Department of Commerce, Room 6625, 14th and Constitution Ave., NW., Washington, DC 20230 or via the Internet at dHynek@doc.gov.

FOR FURTHER INFORMATION CONTACT: For information on the SIMA system, please contact Kelly Parkhill (202) 482-3791; Julie Al-Saadawi (202) 482-1930.

Paperwork Reduction Act: Requests for additional information on the collection of information, or copies of the information collection instrument and instructions should be directed to: William Franklin, Office of Finance, Room 1800A, U.S. Department of Commerce, 14th and Constitution Ave., NW., Washington, DC 20230; Phone Number: (202) 482-3277.

SUPPLEMENTARY INFORMATION: On December 31, 2002, the Department of Commerce published its final rule on the implementation of the current steel import monitoring system (67 FR 79845). This system was initiated in connection with the implementation of safeguard measures with respect to certain steel products pursuant to section 203 of the Trade Act of 1974 (67 FR 10593). The effective date of the system was February 1, 2003. On December 4, 2003, the President issued a proclamation that terminated the steel safeguard measures, but also directed the Secretary of Commerce to continue the monitoring system until the earlier of March 21, 2005, or such time as the Secretary of Commerce establishes a replacement program. On December 9, 2003, the Department of Commerce published a notice stating that the system would continue in effect as described in the Proclamation until March 21, 2005 (68 FR 68594).

The purpose of the SIMA system is to provide steel producers, steel consumers, importers, and the general public with accurate and timely information on anticipated imports of certain steel products. Currently, the SIMA system requires licenses for imports of certain steel products that were formerly covered under the President's safeguard action. Details of the current system can be found in the final rule (19 CFR 360) published on December 31, 2002 (67 FR 79845).

On August 25, 2004, the Department published an advanced notice of proposed rulemaking soliciting comments from the public on whether to continue the current system beyond its expiration date of March 21, 2005 (69 FR 52211) and, if extended, whether the system should be modified in any way. The Department received 73 submissions from a wide range of interested parties, including steel producers, steel consumers, steel suppliers, and importers, as well as from Congressional and foreign interests. Please refer to the SIMA system's Web site to read comments on the ANPRM and for further information about the SIMA system: http://ia.ita.doc.gov/steel/license/.

Interim Final Rule

The purpose of the SIMA system is to collect timely detailed statistics on anticipated steel imports and to provide stakeholders with information about import trends in this sector. The SIMA system aggregates detailed import statistics it collects from internet-generated licenses and makes the data available for public analysis on a weekly basis. The data gathering procedure through the online licensing system would remain the same. The monitor would continue to display aggregate statistical tables and graphs of U.S. steel imports combining data from the Census Bureau with data collected from the licensing system. Slightly more detailed information would be displayed in tabular form only.

The Department is implementing the SIMA system, beyond its current expiration date, for a period of four years (see 19 CFR 360). The Department also is expanding the coverage of the system to include all basic steel mill products. Further, the Department will release, detail on the monitoring Web site, aggregate licensing data at the 6-digit Harmonized Tariff Schedule (HTS) product level. At the same time, the Department is terminating licensing with respect to certain downstream steel products now covered, specifically, carbon and alloy flanges and pipe fittings.

Licensing will continue without interruption on those products covered under the current system (see Annex I). With respect to those basic steel mill products not covered by the current system licensing will not be implemented until June 9, 2005 to allow affected parties sufficient time to adapt to and implement the new requirements (see Annex II for the full list of product codes to be covered under the new system). Finally, termination of licensing for certain downstream products will not occur until June 9, 2005 (see Annex III for a list of product codes to be removed from the system).

The Department does not intend to release aggregate data at the port level because of concerns about the potential release of proprietary information. In addition, the Department intends to make no changes to the timing requirement for obtaining an import license and would continue with the current policy that requires a license at the time of Customs' entry summary, although applicants could apply for a license up to two months prior to the expected date of importation.

The Department intends to issue a final rule, responding to comments received on this interim final rule, before September 30, 2005.

Comments: Submissions received during the public comment period established in the advanced notice of proposed rulemaking have been considered in preparing this interim final rule. In all, 73 submissions were received from a wide range of sources. Nearly all of the comments were supportive of continuing the SIMA system beyond its expiration date as long as it continued to be done in such a way that did not impose an additional burden on trade. The comments are summarized below and listed in order of their frequency:

Comment 1: Extension of the SIMA System—The vast majority of the submissions supported extending the SIMA system beyond its current expiration date, with most suggesting that the program be made permanent. A few commenters stated that the current system should be allowed to expire because either it was (1) unnecessary and duplicative of other import data available to the U.S. government, or (2) a burden on importers and a possible violation of U.S. international obligations.

Response 1: The Department believes that the SIMA system is a critical trade monitoring program and is extending it for another four years under the authority of the Census Act of 1930. The current automatic licensing system is WTO-consistent, and the system will continue to function in a way designed to meet our international obligations. The Department believes that the SIMA system has proven useful to both steel producers and consumers, by providing the public with timely and accurate data on steel imports through a mechanism that imposes minimal burden on those subject to licensing requirements. Other import data collected by the United States cannot be made publicly available on as timely a basis as that collected under the SIMA system. In addition, the system will continue to be Web-based and accessible 24 hours a day, seven days a week, and at no charge, in order to minimize the burden on licensees.

Comment 2: Product Coverage—The Department encouraged parties to comment on the system's product coverage. Generally, the majority of comments, particularly those from the steel producers and suppliers, and those from Members of Congress and State/local governments, requested that the monitoring system be expanded to cover a broader range of steel products than is covered by the current system. Most suggested that the system cover basic steel mill products; however, more than half also suggested that the system should also include some combination of downstream steel products, such as fabricated structurals, wire rope, wire strand and other wire products (including in a few cases, garment hangers). Several consumer groups also suggested that steel exports be covered as well. Those opposed to extension of the program also opposed its expansion, while two other commenters that were not opposed to the extension of the current program stated that they did not support expanding the program because of concerns over potential additional burden or costs to importers.

Response 2: The current system covers all steel products that were subject to the section 203 safeguards remedies imposed by the President in March 2002. That product scope, which corresponds to those products subject to the U.S. International Trade Commission's affirmative injury determinations in the section 201 investigation, included certain, but not all, basic steel mill products as well as some downstream steel products. In order to improve the usefulness of the current system, the Department is modifying the system's product coverage to make it more closely correspond to other important publicly available steel trade data by expanding the system to cover basic steel mill products. The Department also will remove certain currently covered downstream steel products, specifically carbon and alloy flanges and pipe fittings, from the licensing requirements of the system because they are not basic steel mill products. While the expansion in product coverage to basic steel mill products will result in an increase in the number of licenses, the additional burden this imposes on importers will be limited by the importers' familiarity with the current system, the system's automatic nature and the fact that the Department would continue its policy of imposing no fee for obtaining the license. The elimination of certain downstream products from coverage will also help reduce the burden on importers given the large volume of licenses associated with these products. A full list of the product categories and HTS numbers to be covered by the new SIMA system is provided in Annex II.² A list of the product categories and HTS numbers to be removed from the SIMA system licensing requirements is provided in Annex III.

² Implementation of the new product coverage will not occur until 90 days after the publication of this notice in the Federal Register to allow affected parties sufficient time to adapt to and implement the new requirements. Until that time product coverage will remain the same as the previous system. Until that time, licenses will be required on all products listed in Annex I, including those products listed in Annex III which will be removed from the system at the same time, 90 days after publication of this notice, that the modified product scope is implemented.

Comment 3: Changes to the Import Monitor—The advanced notice of proposed rulemaking asked parties to comment on possible modifications to the Import Monitor, particularly with respect to the presentation of more detailed product information. A number of the submissions commented specifically on increasing the level of product detail presented in the monitor. These commenters all requested that the system be altered such that it would report aggregate data by 10-digit HTS category, rather than by the more general product categories currently displayed. Several other commenters voiced concerns over the possibility that increased product detail could potentially reveal proprietary information.

Response 3: The Department will present aggregate data at the 6-digit HTS level. The Department, however, is reluctant to disaggregate data in any greater product detail than at the 6-digit HTS level because of the possibility of inadvertent release of proprietary information.

Comment 4: Port of entry—A number of commenters also suggested that the Department should aggregate data by port of entry.

Response 4: The dissemination of aggregate data on a port of entry basis greatly increases the possibility of inadvertent disclosure of proprietary information, particularly if product detail is increased to the 6-digit HTS level. The Department does not intend to publicly release aggregate port of entry data at this time.

Comment 5: Deadline for Obtaining a Steel Import License—A number of commenters suggested that the deadline for import licenses should be changed to require importers to obtain them earlier than they do now. One group of commenters suggested changing the current deadline to require that licenses be obtained by the time the steel products enter the country (i.e., date of entry) and another group proposed that licenses must be obtained at least fifteen days prior to the date of entry. Other commenters noted that changes to the current deadline (i.e., by the date of entry summary, which may be up to 10 days after the date of entry) could result in additional burdens to importers and possibly impede the flow of trade. In particular, one commenter noted that the special nature of U.S.-Canada trade must be recognized since a significant number of imports are delivered across the border on a just-in-time basis.

Response 5: The Department does not plan to change the existing deadline for the submission of licenses. For the considerable portion of the steel trade that comes across a land border, the requested license data may not be known prior to importation. Licensing deadlines concurrent with, or preceding, the date of importation have the potential for creating impediments to the normal flow of trade, particularly at those ports with high volumes of steel imports. Licenses will continue to be required at the time of entry summary, but may be obtained up to 60 days prior to the expected date of importation.

All comments responding to this notice will be a matter of public record and available for public inspection and copying at Import Administration's Central Records Unit, Room B-099, between the hours of 8:30 a.m. and 5 p.m. on business days.

Classification

Administrative Procedure Act. The Department finds good cause under 5 U.S.C. 553(b)(B) to waive the requirement for prior notice and an opportunity for public comment as such procedures would be contrary to the public interest. The current steel import licensing and monitoring system, which will expire on March 21, 2005, provides the steel industry with real-time information and detailed statistics on steel imports and import trends. The new Steel Import Monitoring System (SIMA) would replace the current system. As described in the preamble, SIMA, as implemented on the effective date of this interim final rule, would be identical to the current steel import monitoring and licensing system. Differences between the current system and SIMA would not be implemented until 90 days after the effective date of this rule, after a 60 day public comment period. As such, the SIMA system would continue to provide the public with timely and accurate data on steel imports through a mechanism that imposes minimal burden on those subject to the licensing requirements. The public has been given multiple opportunities to comment on implementation of this import licensing and monitoring system, and the overwhelming response from the public has been positive. Moreover, changes from the current system, made in response to comments previously received, would not be implemented until after the public has had an opportunity to comment.

The SIMA system must be implemented immediately to prevent a lapse in the import monitoring program. A lapse would subject importers to a severe disruption, creating confusion and uncertainty. Importers would be burdened with the uncertainty of not knowing whether they need to obtain an import license for their product. Importers would also have to change their import process until the SIMA system is implemented, at which time they would again have to change their import process to comply with the licensing requirements. Because this period of lapse would be brief, it would be difficult to determine the licensing requirements at any given time. In addition, this lapse would create unusual and confusing import transactions that would be difficult to resolve. For example, an importer could be faced with the situation where his transaction was initiated during the period when no import license was required, but completed during a time after the implementation of the SIMA system. To avoid such confusion and uncertainty, the SIMA system must be implemented immediately.

In addition, this data provides the industry with real-time information on anticipated steel imports, allowing importers to monitor steel import trends. If this rule is not implemented immediately, the data collected under this system would be less useful to the industry because the information collected during and shortly after the period of lapse would not be complete or accurate. In order to ensure the uninterrupted availability of timely and accurate import data, it is necessary to implement the SIMA system immediately. Finally, upon the effective date of this rule, importers would continue to provide information only on those products covered under the current system. Additional information requirements would not be implemented until 90 days after this rule is effective.

For the reasons above, the Department also finds good cause to waive the 30-day delay in effectiveness. 5 U.S.C. 553(d)(3). The SIMA system must be implemented immediately to prevent a lapse in the import monitoring program. As explained above, if the SIMA system is not implemented immediately, importers would be subject to a severe disruption, which would create confusion and uncertainty. In addition, if this rule is not implemented immediately, the data collected under this system would be less useful to the industry. Finally, the system that is implemented on the effective date of this rule is the same as the system that is currently in place.

Regulatory Flexibility Act. Because prior notice and an opportunity for public comment are not required for this rule under 5 U.S.C. 553, or any other law, the analytical requirements of the Regulatory Flexibility Act, 5 U.S.C. 601 et seq., are inapplicable. However, the Commerce Department believes this interim final rule will not have a significant economic impact. Companies are already familiar with the licensing of certain steel products under the current system. In most cases, brokerage companies will apply for the license for the steel importers. Most brokerage companies that are currently involved in filing documentation for importing goods into the U.S. are accustomed to Customs' automated systems. Today, more than 99% of the Customs filings are handled electronically. Therefore, the Web-based nature of this simple license application is not a significant obstacle to any firm in completing this requirement. However, should a company need to apply for an ID or license non-electronically, a fax/phone option will be available at Commerce during regular business hours. There is no cost to register for a company-specific ID user code and no cost to file for the license. Each license form is expected to take less than 10 minutes to complete using much of the same information used to complete the Customs Entry Summary documentation. This is the one additional requirement of the importers' broker to fulfill U.S. entry requirements to import each covered steel product shipment. Commerce estimates that less than five percent of the licenses would be filed by brokerage companies or other businesses that would be considered small entities. Commerce estimates that about one percent, or $20,000, represents the amount that small entities will incur as a result of this interim final rule.

Paperwork Reduction Act. This interim final rule contains collection-of-information requirements subject to review and approval by OMB under the Paperwork Reduction Act (PRA). These requirements have been approved by OMB (OMB No.: 0625-0245; Expiration Date: 09/30/05). Public reporting for this collection of information is estimated to be less than 10 minutes per response, including the time for reviewing instructions, and completing and reviewing the collection of information. All responses to this collection of information are voluntary, and will be provided confidentially to the extent allowed by law.

Paperwork Reduction Act Data:

OMB Number: 0625-0245.

ITA Number: ITA-4141P.

Type of Review: Regular Submission.

Affected Public: Business or other for-profit.

Estimated Number of Registered Users: 3,500.

Estimated Time Per Response: less than 10 minutes.

Estimated Total Annual Burden Hours: 100,000 hours.

Estimated Total Annual Costs: $2,000,000.

Request for Comments: Comments are invited on (a) Whether the proposed collection of information is necessary for the proper performance of the functions of the agency, including whether the information shall have practical utility; (b) the accuracy of the agency's estimate of the burden (including hours and costs) of the proposed collection information; (c) ways to enhance the quality, utility, and clarity of the information to be collected; (d) ways to minimize the burden of the collection of information on respondents, including through the use of automated collection techniques or forms of information technology.

Comments regarding the information collection must be submitted on or before 5 p.m., E.S.T., May 10, 2005. All comments on the information collection will be summarized and/or included in the request for OMB approval of this information collection; they also will become a matter of public record.

Notwithstanding any other provision of law, no person is required to respond to nor shall a person be subject to a penalty for failure to comply with a collection of information subject to the requirements of the Paperwork Reduction Act unless that collection of information displays a current valid OMB Control Number. Send comments regarding the burden estimate or any other aspect of this collection of information, including suggestions for reducing this burden, to Diana Hynek, Departmental Paperwork, Clearance Officer, Department of Commerce (see ADDRESSES).

Executive Order 12866

This rule has been determined to be significant for purposes of Executive Order 12866.

Executive Order 13132

This rule does not contain policies with federalism implications as that term is defined in EO 13132.

List of Subjects in 19 CFR Part 360

Administrative practice and procedure, Business and industry, Imports, Reporting and recordkeeping requirements, Steel.

For reasons discussed above, 19 CFR part 360 is revised to read as follows:

PART 360—STEEL IMPORT MONITORING AND ANALYSIS SYSTEM

Sec.
360.101 Steel import licensing.
360.102 Online registration.
360.103 Automatic issuance of import licenses.
360.104 Steel import monitoring.
360.105 Duration of the steel import licensing requirement.
360.106 Fees.
360.107 Hours of operation.
360.108 Loss of electronic licensing privileges.

Authority: 13 U.S.C. 301(a) and 302.

§ 360.101 Steel import licensing.

(a) In general. (1) All imports of basic steel mill products are subject to the import licensing requirements. These products are listed in Annex II. Registered users will be able to obtain steel import licenses on the Steel Import Monitoring and Analysis (SIMA) System Web site. This Web site contains two sections related to import licensing—the online registration system and the automatic steel import license issuance system. Information gathered from these licenses will be aggregated and posted on the import monitoring section of the SIMA system Web site.

(2) A single license may cover multiple products as long as certain information on the license (e.g., importer, exporter, manufacturer and country of origin) remains the same. However, separate licenses for steel entered under a single entry will be required if the information differs. As a result, a single Customs entry may require more than one steel import license. The applicable license(s) must cover the total quantity of steel entered and should cover the same information provided on the Customs entry summary.

(b) Entries for consumption. All entries for consumption of covered steel products, other than the exception for “informal entries” listed in paragraph (d) of this section, will require an import license prior to the filing of Customs entry summary documents. The license number(s) must be reported on the entry summary (Customs Form 7501) at the time of filing. There is no requirement to present physical copies of the license forms at the time of entry summary. However, copies must be maintained in accordance with Customs' normal requirements. Entry summaries submitted without the required license number(s) will be considered incomplete and will be subject to liquidated damages for violation of the bond condition requiring timely completion of entry.

(c) Foreign Trade Zone entries. All shipments of covered steel products into a foreign trade zones (FTZ), known as FTZ admissions, will require an import license prior to the filing of FTZ admission documents. The license number(s) must be reported on the application for FTZ admission and/or status designation (Customs form 214) at the time of filing. There is no requirement to present physical copies of the license forms at the time of FTZ admission; however, copies must be maintained in accordance with Customs' normal requirements. FTZ admission documents submitted without the required license number(s) will not be considered complete and will be subject to liquidated damages for violation of the bond condition requiring timely completion of admission. A further steel license will not be required for shipments from zones into the commerce of the United States.

(d) Informal entries. No import license shall be required on informal entries of covered steel products, such as merchandise valued at less than $2,000. This exemption applies to informal entries only, imports of steel valued at less than $2,000 that are part of a formal entry will require a license. For additional information, refer to 19 CFR 143.21 through 143.28.

(e) Other non-consumption entries. Import licenses are not required on temporary importation bond (TIB) entries, transportation and exportation (T&E) entries or entries into a bonded warehouse. Covered steel products withdrawn for consumption from a bonded warehouse will require a license at the entry summary.

§ 360.102 Online registration.

(a) In general. (1) Any importer, importing company, customs broker or importer's agent with a U.S. street address may register and obtain the user identification number necessary to log on to the automatic steel import license issuance system. Foreign companies may obtain a user identification number if they have a U.S. address through which they may be reached; P.O. boxes will not be accepted. A user identification number will be issued within two business days. Companies will be able to register online through the SIMA system Web site. However, should a company prefer to apply for a user identification number non-electronically, a phone/fax option will be available at Commerce during regular business hours.

(2) This user identification number will be required in order to log on to the steel import license issuance system. A single user identification number will be issued to an importer, customs broker or importer's agent. Operating units within the company (e.g., individual branches, divisions or employees) will all use the same basic company user identification code but can supply suffixes to identify the branches. The steel import license issuance system will be designed to allow multiple users of a single identification number from different locations within the company to enter information simultaneously.

(b) Information required to obtain a user identification number. In order to obtain a user identification number, the importer, importing company, customs broker or importer's agent will be required to provide general information. This information will include: the filer company name, employer identification number (EIN) or Customs ID number (where no EIN is available), U.S. street address, phone number, contact information and e-mail address for both the company headquarters and any branch offices that will be applying for steel licenses. It is the responsibility of the applicant to keep the information up-to-date. This information will not be released by Commerce, except as required by U.S. law.

§ 360.103 Automatic issuance of import licenses.

(a) In general. Steel import licenses will be issued to registered importers, customs brokers or their agents through an automatic steel import licensing system. The licenses will be issued automatically after the completion of the form.

(b) Customs entry number. Filers are not required to report a Customs entry number to obtain an import license but are encouraged to do so if the Customs entry number is known at the time of filing for the license.

(c) Information required to obtain an import license. (1) The following information is required to be reported in order to obtain an import license (if using the automatic licensing system, some of this information will be provided automatically from information submitted as part of the registration process):

(i) Filer company name and address;

(ii) Filer contact name, phone number, fax number and email address;

(iii) Entry type (i.e., Consumption, FTZ)

(iv) Importer name;

(v) Exporter name;

(vi) Manufacturer name (filer may state “unknown”);

(vii) Country of origin;

(viii) Country of exportation;

(ix) Expected date of export;

(x) Expected date of import;

(xi) Expected port of entry;

(xii) Current HTS number (from Chapters 72 or 73);

(xiii) Quantity (in kilograms) and

(xiv) Customs value (U.S. $).

(2) Certain fields will be automatically filled out by the automatic license system based on information submitted by the filer (e.g., product category, unit value). Filers should review these fields to help confirm the accuracy of the submitted data.

(3) Upon completion of the form, the importer, customs broker or the importer's agent will certify as to the accuracy and completeness of the information and submit the form electronically. After refreshing the page, the system will automatically issue a steel import license number. The refreshed form containing the submitted information and the newly issued license number will appear on the screen (the “license form”). Filers can print the license form themselves only at that time. For security purposes, users will not be able to retrieve licenses themselves from the license system at a later date for reprinting. If needed, copies of completed license forms can be requested from Commerce during normal business hours.

(d) Duration of the steel import license. The steel import license can be applied for up to 60 days prior to the expected date of importation and until the date of filing of the entry summary documents, or in the case of FTZ entries, the filing of Customs form 214. The steel import license is valid for 75 days; however, import licenses that were valid on the date of importation but expired prior to the filing of entry summary documents will be accepted.

(e) Correcting submitted license information. Users will need to correct licenses themselves if they determine that there was an error submitted. To access a previously issued license, a user must log on with his user identification code and identify the license number and the volume (in kilograms) for the first product shown on the license. The information on the license should match the information presented on the CF-7501 entry summary document as closely as possible; this includes the value and volume of the shipment, the expected date of importation, and the customs district of entry.

(f) Low-value licenses. There is one exception to the requirement for obtaining a unique license for each Customs entry. If the total value of the covered steel portion of an entry is less than $250, applicants may apply to Commerce for a low-value license that can be used in lieu of a single entry license for low-value entries.

§ 360.104 Steel import monitoring.

(a) Throughout the duration of the licensing requirement, Commerce will maintain an import monitoring system on the SIMA system Web site that will report certain aggregate information on imports of steel mill products obtained from the steel licenses. Aggregate data will be reported on a monthly basis by country of origin and steel mill product category and will include import quantity (metric tons), import Customs value (U.S. $), and average unit value ($/metric ton). The Web site will also contain certain aggregate data at the 6-digit Harmonized Tariff Schedule level and will also present a range of historical data for comparison purposes. Provision of this aggregate data on the Web site may be revisited should concerns arise over the possible release of proprietary data.

(b) Reported monthly import data will be refreshed each week with new data on licenses issued during the previous week. This data will also be adjusted periodically for cancelled or unused steel import licenses, as appropriate.

§ 360.105 Duration of the steel import licensing requirement.

The licensing program will be in effect through March 21, 2009, but may be extended upon review and notification in the Federal Register prior to this expiration date. Licenses will be required on all subject imports entered during this period, even if the entry summary documents are not filed until after the expiration of this program. The licenses will be valid for 10 business days after the expiration of this program to allow for the final filing of required Customs documentation.

§ 360.106 Fees.

No fees will be charged for obtaining a user identification number, issuing a steel import license or accessing the steel import surge monitoring system.

§ 360.107 Hours of operation.

The automatic licensing system will generally be accessible 24 hours a day, 7 days a week but may be unavailable at selected times for server maintenance. If the system is unavailable for an extended period of time, parties will be able to obtain licenses from Commerce directly via fax during regular business hours. Should the system be inaccessible for an extended period of time, Commerce would advise Customs to consider this as part of mitigation on any liquidated damage claims that may be issued.

§ 360.108 Loss of electronic licensing privileges.

Should Commerce determine that a filer consistently files inaccurate licensing information or otherwise abuses the licensing system, Commerce may revoke its electronic licensing privileges without prior notice. The filer will then only be able to obtain a license directly from Commerce. Because of the additional time need to review such forms, Commerce may require up to 10 working days to process such forms. Delays in filing caused by the removal of a filer's electronic filing privilege will not be considered a mitigating factor by the U.S. Customs Service.

Dated: March 8, 2005.
Grant Aldonas,
Under Secretary for International Trade.

Note: The Following annexes will not appear in the Code of Federal Regulations.

Annex I: Currently Covered Steel Products (based on section 203 determination): Harmonized Tariff Codes

Annex II: Covered Basic Steel Mill Products (to be implemented 90 days after publication of this notice in the Federal Register): Harmonized Tariff Codes

Annex III: Previously Covered Steel Products No Longer Subject to Licensing Requirements (to be implemented 90 days after publication of this notice in the Federal Register): Harmonized Tariff Codes

Annex I

List of Harmonized Codes Covered Under Current SIMA System

Flat Products: Carbon & Alloy Steel Slab

7207120010, 7207120050, 7207200025, 7207200045, 7224900055

Flat Products: Carbon & Alloy Steel Plate

7208403030, 7208403060, 7208510030, 7208510045, 7208510060, 7208520000, 7208900000, 7210901000, 7211130000, 7211140030, 7211140045, 7225403005, 7225403050, 7225506000, 7226915000

Flat Products: Carbon & Alloy Steel Hot-rolled Flat Products

7208101500, 7208103000, 7208106000, 7208253000, 7208256000, 7208260030, 7208260060, 7208270030, 7208270060, 7208360030, 7208360060, 7208370030, 7208370060, 7208380015, 7208380030, 7208380090, 7208390015, 7208390030, 7208390090, 7208406030, 7208406060, 7208530000, 7208540000, 7211140090, 7211191500, 7211192000, 7211193000, 7211194500, 7211196000, 7211197530, 7211197560, 7211197590, 7225303005, 7225303050, 7225307000, 7225407000, 7226917000, 7226918000

Flat Products: Carbon & Alloy Steel Cold-rolled Flat Products

7209150000, 7209160030, 7209160060, 7209160070, 7209160091, 7209170030, 7209170060, 7209170070, 7209170091, 7209181530, 7209181560, 7209182510, 7209182520, 7209182580, 7209186020, 7209186090, 7209250000, 7209260000, 7209270000, 7209280000, 7209900000, 7211231500, 7211232000, 7211233000, 7211234500, 7211236030, 7211236060, 7211236075, 7211236085, 7211292030, 7211292090, 7211294500, 7211296030, 7211296080, 7211900000, 7225190000, 7225507000, 7225508010, 7225508015, 7225508085, 7226927050, 7226928005, 7226928050, 7226191000, 7226199000, 7226925000, 7226927005

Flat Products: Carbon & Alloy Steel Coated Products

7210200000, 7210300030, 7210300060, 7210410000, 7210490030, 7210490090, 7210610000, 7210690000, 7210703000, 7210706030, 7210706060, 7210706090, 7210906000, 7210909000, 7212200000, 7212301030, 7212301090, 7212303000, 7212305000, 7212401000, 7212405000, 7212500000, 7225910000, 7225920000, 7225990010, 7225990090, 7226930000, 7226940000, 7226990000

Flat Products: Carbon & Alloy Steel Tin Products

7210110000, 7210120000, 7210500000, 7212100000

Carbon & Alloy Steel Hot-rolled bar

7213200010, 7213200080, 7213990060, 7213990090, 7214300010, 7214300080, 7214300000, 7214910015, 7214910060, 7214910090, 7214990015, 7214990030, 7214990045, 7214990060, 7214990075, 7214990090, 7215901000, 7215905000, 7216100010, 7216100050, 7216210000, 7216220000, 7216500000, 7216610000, 7216690000, 7216910010, 7216910090, 7216990010, 7216990090, 7227200000, 7227906005, 7227906050, 7228201000, 7228308005, 7228308050, 7228400000, 7228606000, 7228703020, 7228703040, 7228703060, 7228703080, 7228706000, 7228800000

Carbon & Alloy Steel Cold-Finished Bar

7215100010, 7215100080, 7215500015, 7215500060, 7215500090, 7215903000, 7228205000, 7228505005, 7228505050, 7228608000

Carbon & Alloy Steel Rebar

7213100000, 7214200000

Carbon & Alloy Steel Welded Tubular Products other than OCTG

7305111030, 7305111060, 7305115000, 7305121030, 7305121060, 7305125000, 7305191030, 7305191060, 7305195000, 7305312000, 7305314000, 7305316000, 7305391000, 7305395000, 7305901000, 7305905000, 7306301000, 7306303000, 7306305010, 7306305015, 7306305020, 7306305025, 7306305032, 7306305035, 7306305040, 7306305055, 7306305085, 7306305090, 7306501000, 7306503000, 7306505010, 7306505030, 7306505050, 7306505070, 7306601000, 7306603000, 7306605000, 7306607060, 7306901000, 7306905000

Carbon & Alloy Steel Fittings & Flanges

7307915010, 7307915030, 7307915050, 7307915070, 7307923010, 7307923030, 7307929000, 7307933000, 7307936000, 7307939030, 7307939060, 7307995015, 7307995045, 7307995060

Stainless Steel Bar

7221000045, 7222110005, 7222110050, 7222190005, 7222190050, 7222200005, 7222200045, 7222200075, 7222300000, 7222403065, 7222403085, 7222406000

Stainless Steel Rod

7221000005, 7221000015, 7221000030, 7221000075

Stainless Steel Wire

7223001015, 7223001030, 7223001045, 7223001060, 7223001075, 7223005000, 7223009000

Annex II

New SIMA System Product Coverage To Include Basic Steel Mill Products: Harmonized Tariff System Codes

Ingots and Steel for Castings

7206100000, 7206900000, 7218100000, 7224100005, 7224100075

Blooms, Billets and Slabs

7207110000, 7207120010, 7207120050, 7207190030, 7207190090, 7207200025, 7207200045, 7207200075, 7207200090, 7218910015, 7218910030, 7218910060, 7218990015, 7218990030, 7218990045, 7218990060, 7218990090, 7224900005, 7224900045, 7224900055, 7224900065, 7224900075

Wire Rods

7213913000, 7213913010, 7213913011, 7213913015, 7213913090, 7213913091, 7213913092, 7213914500, 7213914510, 7213914590, 7213916000, 7213916010, 7213916090, 7213990030, 7213990031, 7213990038, 7213990090, 7221000015, 7221000030

Structural Shapes Heavy

7216310000, 7216320000, 7216330030, 7216330060, 7216330090, 7216400010, 7216400050, 7216500000, 7216990000, 7216990010, 7216990090, 7222403025, 7222403045, 7228703020, 7228703040

Steel Piling

7301100000

Plates Cut Lengths

7208403030, 7208403060, 7208510030, 7208510045, 7208510060, 7208520000, 7210901000, 7211130000, 7211140030, 7211140045, 7219210005, 7219210020, 7219210040, 7219210050, 7219210060, 7219220005, 7219220010, 7219220015, 7219220020, 7219220025, 7219220030, 7219220035, 7219220040, 7219220045, 7219220060, 7219220070, 7219220075, 7219220080, 7219310050, 7220110000, 7225403005, 7225403050, 7225506000, 7226915000

Plates in Coils

7208101500, 7208103000, 7208253000, 7208256000, 7208360030, 7208360060, 7208370030, 7208370060, 7211140090, 7219110000, 7219110030, 7219110060, 7219120002, 7219120006, 7219120021, 7219120026, 7219120045, 7219120051, 7219120056, 7219120066, 7219120071, 7219120081, 7219310010, 7225303005, 7225303050

Rails Standard

7302101010, 7302101035, 7302105020

Rails All Other

7302101015, 7302101025, 7302101045, 7302101055

Railroad Accessories

7302200000, 7302400000, 7302901000

Bars—Hot Rolled

7213200000, 7213200010, 7213200080, 7213990060, 7214100000, 7214300000, 7214300010, 7214300080, 7214910015, 7214910060, 7214910090, 7214990015, 7214990030, 7214990045, 7214990060, 7214990075, 7214990090, 7215901000, 7221000005, 7221000045, 7221000075, 7222110005, 7222110050, 7222190005, 7222190050, 7227200000, 7227200010, 7227200020, 7227200090, 7227200095, 7227906005, 7227906050, 7227906051, 7227906053, 7227906058, 7227906059, 7228201000, 7228308005, 7228308050, 7228400000, 7228606000, 7228800000

Bars—Light Shapes

7216100010, 7216100050, 7216210000, 7216220000, 7222403065, 7222403085, 7228703060, 7228703080

Bars—Reinforcing

7213100000, 7214200000

Bars-Cold Finished

7215100000, 7215100010, 7215100080, 7215500015, 7215500060, 7215500090, 7215903000, 7215905000, 7222200005, 7222200045, 7222200075, 7222300000, 7228205000, 7228505005, 7228505050, 7228608000

Tool Steel

7224100045, 7224900015, 7224900025, 7224900035, 7225200000, 7225301000, 7225305030, 7225305060, 7225401015, 7225401090, 7225405030, 7225405060, 7225501030, 7225501060, 7226200000, 7226910500, 7226911530, 7226911560, 7226912530, 7226912560, 7226921030, 7226921060, 7226923030, 7226923060, 7227100000, 7227901030, 7227901060, 7227902030, 7227902060, 7228100010, 7228100030, 7228100060, 7228302000, 7228304000, 7228306000, 7228501010, 7228501020, 7228501040, 7228501060, 7228501080, 7228601030, 7228601060, 7229100000

Standard Pipe

7304390016, 7304390020, 7304390024, 7304390036, 7304390048, 7304390062, 7304390076, 7304390080, 7304598010, 7304598015, 7304598030, 7304598045, 7304598060, 7304598080, 7306305025, 7306305028, 7306305032, 7306305040, 7306305055, 7306305085, 7306305090

Oil Country Goods

7304213000, 7304216030, 7304216045, 7304216060, 7304291010, 7304291020, 7304291030, 7304291040, 7304291050, 7304291060, 7304291080, 7304292010, 7304292020, 7304292030, 7304292040, 7304292050, 7304292060, 7304292080, 7304293010, 7304293020, 7304293030, 7304293040, 7304293050, 7304293060, 7304293080, 7304294010, 7304294020, 7304294030, 7304294040, 7304294050, 7304294060, 7304294080, 7304295015, 7304295030, 7304295045, 7304295060, 7304295075, 7304296015, 7304296030, 7304296045, 7304296060, 7304296075, 7305202000, 7305204000, 7305206000, 7305208000, 7306201030, 7306201090, 7306202000, 7306203000, 7306204000, 7306206010, 7306206050, 7306208010, 7306208050

Line Pipe

7304101020, 7304101030, 7304101045, 7304101060, 7304101080, 7304105020, 7304105050, 7304105080, 7305111030, 7305111060, 7305115000, 7305121030, 7305121060, 7305125000, 7305191030, 7305191060, 7305195000, 7306101010, 7306101013, 7306101014, 7306101015, 7306101019, 7306101050, 7306101053, 7306101054, 7306101055, 7306101059, 7306105010, 7306105013, 7306105014, 7306105015, 7306105019, 7306105050, 7306105053, 7306105054, 7306105055, 7306105059

Mechanical Tubing

7304313000, 7304316050, 7304390028, 7304390032, 7304390040, 7304390044, 7304390052, 7304390056, 7304390068, 7304390072, 7304511000, 7304515060, 7304591000, 7304596000, 7304598020, 7304598025, 7304598035, 7304598040, 7304598050, 7304598055, 7304598065, 7304598070, 7304905000, 7304907000, 7306301000, 7306305015, 7306305020, 7306305035, 7306501000, 7306505030, 7306505050, 7306505070, 7306605000, 7306607060

Pressure Tubing

7304316010, 7304390002, 7304390004, 7304390006, 7304390008, 7304515015, 7304515045, 7304592030, 7304592040, 7304592045, 7304592055, 7304592060, 7304592070, 7304592080, 7306305010, 7306505010

Stainless Pipe & Tubing

7304413005, 7304413015, 7304413045, 7304416005,7304416015, 7304416045, 7304490005, 7304490015, 7304490045, 7304490060, 7306401010, 7306401015, 7306401090, 7306405005, 7306405015, 7306405040, 7306405042, 7306405044, 7306405062, 7306405064, 7306405080, 7306405085, 7306405090, 7306607030

Pipe & Tubing Nonclassified

7304515005, 7305901000, 7305905000, 7306901000, 7306905000

Structural Pipe & Tubing

7304901000, 7304903000, 7305312000, 7305314000, 7305316000, 7306303000, 7306503000, 7306601000, 7306603000

Pipe for Piling

7305391000, 7305395000

Wire Drawn

7217101000, 7217102000, 7217103000, 7217104030, 7217104090, 7217105030, 7217105090, 7217106000, 7217107000, 7217108010, 7217108020, 7217108025, 7217108030, 7217108045, 7217108060, 7217108075, 7217108090, 7217109000, 7217201500, 7217203000, 7217204510, 7217204520, 7217204530, 7217204540, 7217204550, 7217204560, 7217204570, 7217204580, 7217206000, 7217207500, 7217301530, 7217301560, 7217303000, 7217304504, 7217304510, 7217304511, 7217304520, 7217304530, 7217304540, 7217304541, 7217304550, 7217304560, 7217304590, 7217306000, 7217307500, 7217905030, 7217905060, 7217905090, 7223001015, 7223001030, 7223001045, 7223001060, 7223001075, 7223005000, 7223009000, 7229200000, 7229200010, 7229200015, 7229200090, 7229901000, 7229905006, 7229905008, 7229905015, 7229905016, 7229905030, 7229905031, 7229905050, 7229905051, 7229909000

Black Plate

7209182510, 7209182520, 7209182550, 7209182580

Tin Plate

7210110000, 7210120000, 7212100000

Tin Free Steel

7210500000

Sheets Hot Rolled

7208106000, 7208260030, 7208260060, 7208270030, 7208270060, 7208380015, 7208380030, 7208380090, 7208390015, 7208390030, 7208390090, 7208406030, 7208406060, 7208530000, 7208540000, 7208900000, 7219130002, 7219130031, 7219130051, 7219130071, 7219130081, 7219140030, 7219140065, 7219140090, 7219230030, 7219230060, 7219240030, 7219240060, 7225307000, 7225407000

Sheets Cold Rolled

7209150000, 7209160030, 7209160060, 7209160070, 7209160090, 7209160091, 7209170030, 7209170060, 7209170070, 7209170090, 7209170091, 7209181530, 7209181560, 7209186000, 7209186020, 7209186090, 7209250000, 7209260000, 7209270000, 7209280000, 7209900000, 7210703000, 7219320005, 7219320020, 7219320025, 7219320035, 7219320036, 7219320038, 7219320042, 7219320044, 7219320045, 7219320060, 7219330005, 7219330020, 7219330025, 7219330035, 7219330036, 7219330038, 7219330042, 7219330044, 7219330045, 7219330070, 7219330080, 7219340005, 7219340020, 7219340025, 7219340030, 7219340035, 7219340050, 7219350005, 7219350015, 7219350030, 7219350035, 7219350050, 7219900010, 7219900020, 7219900025, 7219900060, 7219900080, 7225507000, 7225508010, 7225508015, 7225508085, 7225990010, 7225990090

Sheets & Strip Galv Hot Dipped

7210410000, 7210490030, 7210490090, 7210706060, 7212301030, 7212301090, 7212303000, 7212305000, 7225920000, 7226940000

Sheets & Strip Galv Electrolytic

7210300030, 7210300060, 7210706030, 7212200000, 7225910000, 7226930000

Sheets & Strip All Other Metalic CTD

7210200000, 7210610000, 7210690000, 7210706090, 7210906000, 7210909000, 7212500000, 7212600000

Sheets & Strip—Electrical

7225110000, 7225190000, 7226111000, 7226119030, 7226119060, 7226191000, 7226199000

Strip—Hot Rolled

7211191500, 7211192000, 7211193000, 7211194500, 7211196000, 7211197530, 7211197560, 7211197590, 7220121000, 7220125000, 7226917000, 7226918000

Strip—Cold Rolled

7211231500, 7211232000, 7211233000, 7211234500, 7211236030, 7211236060, 7211236075, 7211236085, 7211292030, 7211292090, 7211294500, 7211296030, 7211296080, 7211900000, 7212401000, 7212405000, 7220201010, 7220201015, 7220201060, 7220201080, 7220206005, 7220206010,7220206015, 7220206060, 7220206080, 7220207005, 7220207010, 7220207015, 7220207060, 7220207080, 7220208000, 7220209030, 7220209060, 7220900010, 7220900015, 7220900060, 7220900080, 7226925000, 7226927005, 7226927050, 7226928005, 7226928050, 7226990000

Annex III

Harmonized Tariff Codes that will be Removed from the SIMA System

7307915010, 7307915030, 7307915050, 7307915070, 7307923010, 7307923030, 7307929000, 7307933000, 7307936000, 7307939030, 7307939060, 7307995015, 7307995045, 7307995060

[FR Doc. 05-4971 Filed 3-10-05; 8:45 am]

BILLING CODE 3510-DS-P